DEPARTMENT OF COMMERCE

Foreign-Trade Zones Board

[S-89-2015]

Approval of Subzone Status; Autogermana, Inc.; San Juan, Puerto Rico

On June 11, 2015, the Acting Executive Secretary of the Foreign-Trade Zones (FTZ) Board docketed an application submitted by the Puerto Rico Trade & Export Company, grantee of FTZ 61, requesting subzone status subject to the existing activation limit of FTZ 61 on behalf of Autogermana, Inc., in San Juan, Puerto Rico. The applicant also requested removal of Site 22 of FTZ 61 following a transition period to allow merchandise to be transferred to the new subzone.

The application was processed in accordance with the FTZ Act and Regulations, including notice in the Federal Register inviting public comment (80 FR 34619, 6-17-2015). The FTZ staff examiner reviewed the application and determined that it meets the criteria for approval.

Pursuant to the authority delegated to the FTZ Board's Executive Secretary (15 CFR Sec. 400.36(f)), the application to establish Subzone 61Q and to remove Site 22 of FTZ 61 after a 45-day transition period (i.e., on September 21, 2015) is approved, subject to the FTZ Act and the Board's regulations, including Section 400.13, and further subject to FTZ 61's 1,821.07-acre activation limit.

Dated: August 6, 2015.
Andrew McGilvray,
Executive Secretary.

[FR Doc. 2015-19707 Filed 8-10-15; 8:45 am]

BILLING CODE 3510-DS-P